DEPARTMENT OF THE INTERIOR

National Park Service

[NPS-WASO-NAGPRA-NPS0035094; PPWOCRADN0-PCU00RP14.R50000]

Notice To Rescind a Notice of Inventory Completion: Mississippi Department of Archives and History, Jackson, MS

AGENCY: National Park Service, Interior.

ACTION: Notice.

SUMMARY: The Mississippi Department of Archives and History, is rescinding a Notice of Inventory Completion published in the Federal Register on June 20, 2005.

FOR FURTHER INFORMATION CONTACT: Jessica Walzer, NAGPRA Coordinator, Mississippi Department of Archives and History, Museum Division, 222 North Street, P.O. Box 571, Jackson, MS 39205, telephone (601) 359-6851, email jwalzer@mdah.ms.gov.

SUPPLEMENTARY INFORMATION: Notice was previously given in accordance with the Native American Graves Protection and Repatriation Act (NAGPRA), 25 U.S.C. 3003, of the completion of an inventory of human remains and associated funerary objects under the control of the Mississippi Department of Archives and History, Jackson, MS. The human remains and associated funerary objects were removed from the Alston-Wilson site (MLe14) in Lee County, MS.

This notice is published as part of the National Park Service's administrative responsibilities under NAGPRA, 25 U.S.C. 3003(d)(3). The determinations in this notice are the sole responsibility of the institution that has control of the Native American human remains and associated funerary objects. The National Park Service is not responsible for the determinations in this notice.

The Mississippi Department of Archives and History is rescinding a Notice of Inventory Completion published in the Federal Register (70 FR 35451-35452, June 20, 2005). Transfer of control of the items in that notice has not occurred.

Correction

All paragraphs in the Federal Register notice of June 20, 2005 (70 FR 35451-35452) are deleted in their entirety.

The Mississippi Department of Archives and History is responsible for notifying the Alabama-Coushatta Tribe of Texas (previously listed as Alabama-Coushatta Tribes of Texas); Alabama-Quassarte Tribal Town; Coushatta Tribe of Louisiana; Eastern Band of Cherokee Indians; Jena Band of Choctaw Indians; Miami Tribe of Oklahoma; Mississippi Band of Choctaw Indians; Quapaw Nation (previously listed as The Quapaw Tribe of Indians); The Chickasaw Nation; The Choctaw Nation of Oklahoma; The Muscogee (Creek) Nation; The Osage Nation (previously listed as Osage Tribe); and the Tunica-Biloxi Indian Tribe that this notice has been published.

Dated: January 4, 2023.
Melanie O'Brien,
Manager, National NAGPRA Program.

[FR Doc. 2023-00465 Filed 1-11-23; 8:45 am]

BILLING CODE 4312-52-P